DEPARTMENT OF THE INTERIOR

Fish and Wildlife Service

50 CFR Part 17

RIN 1018-AF41

Endangered and Threatened Wildlife and Plants; Reopening of Comment Period, Notice of Public Hearings, and Clarification of Special Rule on Proposed Threatened Status for Chiricahua Leopard Frog

AGENCY: Fish and Wildlife Service, Interior.

ACTION: Proposed rule; reopening of comment period, notice of public hearing, and clarification.

SUMMARY: We, the U.S. Fish and Wildlife Service give notice that the comment period is reopened and that public hearings are scheduled on the proposed rule to list the Chiricahua leopard frog as threatened with a special rule. The hearings and the reopening of the comment period will allow all interested parties to submit oral or written comments on the proposal. We also clarify the extent of lands to which a proposed special rule for the frog would apply.

DATES: We will hold the public hearings 7 p.m. to 9 p.m. on October 10, 2000, in Silver City, New Mexico; and October 11, 2000, in Bisbee, Arizona. The comment period for this proposal is now reopened until November 13, 2000. Comments must be received by the closing date. We will not consider any comments we receive after the closing date in the final decision on the proposal.

ADDRESSES: We will hold the public hearings at Light Hall Auditorium, Western New Mexico University, 1000 College Street, Silver City, New Mexico; and Bisbee High School Auditorium, School Terrace Road (south of Highway 92), Bisbee, Arizona. Send written comments to the Field Supervisor, U.S. Fish and Wildlife Service, 2321 W. Royal Palm Road, Suite 103, Phoenix, Arizona 85021. Comments and materials received will be available for public inspection, by appointment, during normal business hours at the above Fish and Wildlife Service address.

FOR FURTHER INFORMATION CONTACT: Jeffrey A. Humphrey, at the above address (602-640-2720).

SUPPLEMENTARY INFORMATION:

Background

We published a proposed rule to list Chiricahua leopard frog (Rana chiricahuensis) as threatened pursuant to the Endangered Species Act of 1973, as amended (Act) in the Federal Register on June 14, 2000 (64 FR 37343). The Chiricahua leopard frog is now absent from many historical localities and numerous mountain ranges, valleys, and drainages within its former range. In areas where it is present, populations are often few, small and widely scattered. Known threats include habitat alteration, destruction, and fragmentation; predation by nonnative organisms; and disease. Problems associated with small population numbers and size, and adverse effects from water-borne contaminants may also threaten the species.

Concurrently with publication of the proposed rule to list the Chiricahua leopard frog as threatened, we published a proposed special rule under 4(d) of the Act to amend regulations at 50 CFR 17.43. The special rule stated that “. . . incidental take of the Chiricahua leopard frog will not be considered a violation of section 9 of the Endangered Species Act of 1973, as amended (Act), if it results from livestock use of or maintenance activities at livestock tanks located on private or tribal lands.” The intent of the special rule was to encourage continued conservation of Chiricahua leopard frog habitat in livestock tanks on all non-Federal lands, rather than limiting the conservation incentive to just private and tribal lands. Incidental take of Chiricahua leopard frogs during operations and maintenance of livestock tanks on Federal lands will be reviewed under the section 7 consultation process.

Clarification of Special Rule

3. We propose to amend 50 CFR 17.43 by adding paragraphs to read as follows:

§ 17.43 Special rules-amphibians.

* * * * *

(b) What species is covered by this special rule? Chiricahua leopard frog (Rana chiricahuensis).

(1) What activities are prohibited? Except as noted in paragraph (b)(2) of this section, all prohibitions of § 17.31 will apply to the Chiricahua leopard frog.

(2) What activities are allowed on non-Federal land? Incidental take of the Chiricahua leopard frog will not be considered a violation of section 9 of the Endangered Species Act of 1973, as amended (Act), if it results from livestock use of, or maintenance activities at, livestock tanks located on any non-Federal lands. A livestock tank is defined as an existing or future impoundment in an ephemeral drainage or upland site constructed primarily as a watering site for livestock.

Comments Solicited

Pursuant to 50 CFR 424.16(c)(2), we may extend or reopen a comment period upon finding that there is good cause to do so. Full participation of the affected public in the species listing process, allowing us to consider the best scientific and commercial data available in making a final determination on the proposed action, is deemed as sufficient cause. Additionally, this reopened comment period will allow the public to consider and comment on the clarification of the special rule provided in this notice.

Section 4(b)(5)(E) of the Act, as amended (16 U.S.C. 1531 et seq.), requires that a public hearing be held if it is requested within 45 days of the publication of a proposed rule. In response to 11 such requests, we will hold two public hearings (see DATES and ADDRESSES).

Anyone wishing to make an oral statement for the record is encouraged to provide a written copy of their statement and submit it at the start of the hearing. In the event there is a large attendance, the time allotted for oral statements may have to be limited. Oral and written statements receive equal consideration. There are no limits to the length of written comments submitted at the hearings or mailed to the Fish and Wildlife Service.

The comment period on this proposal closed on September 12, 2000. In order to accommodate public hearings, we now reopen the public comment period. Written comments may now be submitted until October 27, 2000, to our office in the ADDRESSES section.

Author: The primary author of this notice is James Rorabaugh (see ADDRESSES).

Authority: The authority for this action is the Endangered Species Act of 1973 (16 U.S.C. 1531-1544).

Dated: September 20, 2000.
Nancy M. Kaufman,
Regional Director, Region 2, Fish and Wildlife Service.

[FR Doc. 00-24758 Filed 9-26-00; 8:45 am]

BILLING CODE 4310-55-M